DEPARTMENT OF LABOR

Employment and Training Administration

[TA-W-85,726]

Hewlett-Packard Co. HP Enterprise Group Americas Supply Chain Houston Manufacturing Including On-Site Leased Workers From Advantage Technical Resourcing, Bucher and Christian Consulting, Inc., CBSI LLC, Manpower, National Employment Service, Pinnacle Technical Resources, Inc., and Staff Management (a Subsidiary of Seaton, LLC) Houston, Texas; Amended Certification Regarding Eligibility To Apply for Worker Adjustment Assistance

In accordance with Section 223 of the Trade Act of 1974, as amended (“Act”), 19 U.S.C. 2273, the Department of Labor issued a Certification of Eligibility to Apply for Worker Adjustment Assistance on March 2, 2015, applicable to workers of Hewlett-Packard Co., HP Enterprise Group, Americas Supply Chain Houston Manufacturing, including on-site leased workers from Advantage Technical Resourcing, Bucher and Christian Consulting, Inc., CBSI LLC, Manpower, National Employment Service, Pinnacle Technical Resources, Inc., and Staff Management, Houston, Texas. The workers were engaged in activities related to the production of server cabinets and parts.

At the request of a state workforce official to clarify the worker group, the Department reviewed the certification for workers of the subject firm. The company reports that the leased worker agency, Staff Management, is a subsidiary of Seaton, LLC.

Based on these findings, the Department is amending this certification to include workers leased from Staff Management (a subsidiary of Seaton, LLC) working on-site at the Houston, Texas location of Hewlett-Packard Co., HP Enterprise Group, Americas Supply Chain Houston Manufacturing.

The amended notice applicable to TA-W-85,726 is hereby issued as follows:

All workers of Hewlett-Packard Co., HP Enterprise Group, Americas Supply Chain Houston Manufacturing, including on-site leased workers from Advantage Technical Resourcing, Bucher and Christian Consulting, Inc., CBSI LLC, Manpower, National Employment Service, Pinnacle Technical Resources, Inc., and Staff Management (a subsidiary of Seaton, LLC), Houston, Texas, who became totally or partially separated from employment on or after December 15, 2013 through March 2, 2017, and all workers in the group threatened with total or partial separation from employment on the date of certification through two years from the date of certification, are eligible to apply for adjustment assistance under Chapter 2 of Title II of the Trade Act of 1974, as amended.

Signed in Washington, DC, this 23rd day of April 2015.
Del Min Amy Chen,
Certifying Officer, Office of Trade Adjustment Assistance.

[FR Doc. 2015-12879 Filed 5-27-15; 8:45 am]

BILLING CODE 4510-FN-P